DEPARTMENT OF HEALTH AND HUMAN SERVICES

Administration for Children and Families

[OMB No.: New Collection]

Proposed Information Collection Activity; Comment Request

Proposed Projects

Title: Child Support Document Exchange System (CSDES).

Description: The federal Office of Child Support Enforcement (OCSE) is implementing a new application, the Child Support Document Exchange System (CSDES), within the Federal Parent Locator Service (FPLS) Child Support Services Portal (CSSP). The CSDES will collect and maintain certain child and spousal support case-related records provided by a state IV-D child support agency to facilitate the dissemination of IV-D child and spousal support information to authorized users acting on behalf of a state IV-D child support agency. 42 U.S.C. 666(c)(1)(A)(B)(C) and (D) and 42 U.S.C. 653(a)(1).

The purpose of the information collection is to provide technical assistance to the states to help them establish effective systems for collecting child and spousal support. 42 U.S.C. 652(a)(7). This will help state IV-D agencies in fulfilling the federal requirement to transmit requests for child support case information and provide requested information electronically to the greatest extent possible. 45 CFR 303.7(a)(5).

It is anticipated that the implementation of the CSDES will reduce delays, costs, and barriers associated with interstate case processing; increase state collections; improve document security; standardize data sharing; and increase state participation; thereby improving overall child and spousal support outcomes.

Respondents: State Child Support Agencies

Annual Burden Estimates
Instrument | Number of respondents | Number of responses per respondent | Average burden hours per response | Total burden hours
Data Entry Screens | 54 | 4,272 | .01667 | 3,845

Estimated Total Annual Burden Hours: 3,845.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden information to be collected; and (d) ways to minimize the burden of the collection of information on respondents, including through the use of automated collection techniques or other forms of information technology. Consideration will be given to comments and suggestions submitted within 60 days of this publication.

Robert Sargis,
Reports Clearance Officer.

[FR Doc. 2012-20565 Filed 8-21-12; 8:45 am]

BILLING CODE 4184-01-P